DEPARTMENT OF JUSTICE

Civil Division

Agency Information Collection Activities: Proposed Collection; Comments Requested

ACTION: Notice of Information Collection Under Review; Extension of a currently approved form SF 95, Claim for Damage, Injury, or Death.

The Department of Justice, Civil Division, Torts Branch, has submitted the following information collection request for review and clearance in accordance with the Paperwork Reduction Act of 1995. This proposed information collection is published to obtain comments from the public and affected agencies. Comments are encouraged and will be accepted for “sixty days” until May 29, 2001.

If you have additional comments, suggestions, or need a copy of the proposed information collection instrument with instructions or additional information, please contact Jeffrey Axelrad, 202-616-4400, Director, Torts Branch, Civil Division, U.S. Department of Justice, P.O. Box 888, Benjamin Franklin Station, Washington, D.C. 20044.

Written comments and suggestions from the public and affected agencies concerning the proposed collection of information should address one or more of the following four points:

(1) Evaluate whether the proposed collection of information is necessary for the proper performance of the function of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical or other technological collection techniques or other forms of information technology, e.g., permitting electronic submission of responses.

Overview of this information:

(1) Type of information collection: Extension of a currently approved collection

(2) The title of the form/collection: Claim for Damage, Injury, or Death

(3) The agency form number, if any, and the applicable component of the Department sponsoring the collection: SF95, Civil Division, United States Department of Justice,

(4) Affected public who will be asked or required to respond, as well as a brief abstract:

Primary: Individuals or households. Other: Business or other for-profit; not-for-profit institutions; and State, Local or Tribal Government.

(5) An estimate of the total number of respondents and the amount of time estimated for an average respondent to respond/rely: It is estimated that 300,000 respondents will complete this form. A respondent will take an estimate of 6 hours to complete each form.

(6) An estimate of the total public burden (in hours) associated with the collection: It is estimated that the total public burden associated with this collection is 1.8 million annual burden hours.

If additional information is required contact: Mr. Robert B. Briggs, Clearance Officer, United States Department of Justice, Information Management and Security Staff, Justice Management Division, Suite 1220, National Place, 1331 Pennsylvania Avenue, NW, Washington, DC 20530.

Dated: March 22, 2001.
Robert B. Briggs,
Department Deputy Clearance Officer, Department of Justice.

[FR Doc. 01-7620 Filed 3-27-01; 8:45 am]

BILLING CODE 4410-12-M